DEPARTMENT OF ENERGY

Federal Energy Regulatory Commission

[Docket No. RP98-206-005]

Atlanta Gas Light Company; Notice of Technical Conference

February 10, 2000.

Take notice that a technical conference will be held on Thursday, March 16, 2000, at 10 am., in a room to be designated at the offices of the Federal Energy Regulatory Commission, 888 First Street, NE, Washington, DC 20426.

All interested parties and Staff are permitted to attend.

Linwood A. Watson, Jr.,
Acting Secretary.

[FR Doc. 00-3650 Filed 2-15-00; 8:45 am]

BILLING CODE 6717-01-M